DEPARTMENT OF TRANSPORTATION

Federal Aviation Administration

14 CFR Part 121

[Docket No. 28154; Amendment No. 121-283]

Emergency Exits

AGENCY: Federal Aviation Administration, DOT.

ACTION: Final rule; technical amendment.

SUMMARY: The Federal Aviation Administration (FAA or “we”) is amending our regulations by removing an obsolete cross reference. This change is necessary to correct an error and will not impose any additional burdens or restrictions on persons or organizations affected by these regulations.

EFFECTIVE DATE: April 25, 2001.

FOR FURTHER INFORMATION CONTACT: Michael J. Coffey, Air Carrier Operations Branch (AFS-220), Air Transportation Division, Flight Standards Service, Federal Aviation Administration, 800 Independence Avenue SW., Washington, DC 20591, Telephone (202) 267-3750.

SUPPLEMENTARY INFORMATION:

Background

On January 26, 1996, we published a final rule that made numerous editorial and terminology changes to the regulations governing air carriers and commercial operators (61 FR 2608). These regulations are found at 14 CFR parts 119, 121, and 135. The 1996 rule was necessary due to an earlier final rule that updated and consolidated the regulations governing the operations of commuter airlines. See 60 FR 65913, Dec. 20, 1995.

During the course of these two rulemakings, which involved numerous changes, we inadvertently failed to delete a cross reference in 14 CFR 121.310(m) to 14 CFR 121.627(c), which no longer exists in our regulations. The purpose of this action is to eliminate the obsolete cross reference to avoid causing any confusion amongst those whose activities are governed by 14 CFR part 121.

This change is editorial in nature and has no substantive impact on the persons or organizations governed by these regulations. Under the Administrative Procedure Act, an agency doesn't have to issue a notice of proposed rulemaking when the agency for good cause finds that notice and public procedure are “impracticable, unnecessary, or contrary to the public interest.” See 5 U.S.C. 553(b). Because this technical amendment simply corrects an obsolete cross reference, we find that publishing the change for public notice and comment is unnecessary.

The Administrative Procedure Act also states that an agency must publish a substantive rule not less than 30 days before its effective date, except as otherwise provided by the agency for good cause. See 5 U.S.C. 553(d). We find that this technical amendment imposes no additional burden or requirement on the regulated industry, and thus, is not substantive in nature. Moreover, we find that there is good cause to make the correction effective immediately upon publication in the Federal Register. It is not in the public interest to have an obsolete cross reference in our regulations. It is in the public interest to correct the error without any further delay.

This regulation is editorial in nature and imposes no additional burden on any person or organization. Accordingly, we have determined that the action: (1) Is not a significant rule under Executive Order 12866; and (2) is not a significant rule under Department of Transportation Regulatory Policy and Procedures. Also, because this regulation is editorial in nature, no impact is expected to result, and a full regulatory evaluation is not required. In addition, the FAA certifies that the rule will not have a significant economic impact, positive or negative, on a substantial number of small entities under the criteria of the Regulatory Flexibility Act.

List of Subjects in 14 CFR Part 121

Air Carriers, Aircraft, Airmen, Aviation safety, Charter flights.

The Amendment

In consideration of the foregoing, the Federal Aviation Administration amends part 121 of title 14 of the Code of Federal Regulations as follows:

PART 121—OPERATING REQUIREMENTS: DOMESTIC, FLAG, AND SUPPLEMENTAL OPERATIONS

1. The authority citation for part 121 continues to read as follows:

Authority: 49 U.S.C. 106(g), 40113, 40119, 44101, 44701-44702, 44705, 44709-44711, 44713, 44716-44717, 44722, 44901, 44903-44904, 44912, 46105.

2. Amend § 121.310 by revising paragraph (m) to read as follows:

§ 121.310 Additional emergency equipment.

* * * * *

(m) Except for an airplane used in operations under this part on October 16, 1987, and having an emergency exit configuration installed and authorized for operation prior to October 16, 1987, for an airplane that is required to have more than one passenger emergency exit for each side of the fuselage, no passenger emergency exit shall be more than 60 feet from any adjacent passenger emergency exit on the same side of the same deck of the fuselage, as measured parallel to the airplane's longitudinal axis between the nearest exit edges.

Issued in Washington, DC, on April 19, 2001.
Donald P. Byrne,
Assistant Chief Counsel, Regulations Division.

[FR Doc. 01-10238 Filed 4-24-01; 8:45 am]

BILLING CODE 4910-13-M